DEPARTMENT OF THE INTERIOR

Bureau of Land Management

[LLCA 942000 L57000000 BX0000]

Final Agency Action To Transfer Title From the United States to the Pechanga Band of Luiseño Mission Indians and to San Diego Gas & Electric Company, California

AGENCY: Bureau of Land Management, Interior.

ACTION: Notice.

SUMMARY: This notice publishes the legal description of the boundaries of the Federal lands to be held by the Secretary of the Interior in trust for the benefit of the Pechanga Band of Luiseño Mission Indians of the State of California and the Federal lands transferred to San Diego Gas & Electric Company as mandated by Congress in Section 2(f) of the Pechanga Band of Luiseño Mission Indians Land Transfer Act of 2007.

ADDRESSES: A copy of the plats may be obtained from the California State Office, Bureau of Land Management, 2800 Cottage Way, Sacramento, CA 95825, upon required payment.

FOR FURTHER INFORMATION CONTACT: Chief, Branch of Geographic Services, Bureau of Land Management, California State Office, 2800 Cottage Way, Room W-1623, Sacramento, CA 95825, 916-978-4310.

SUPPLEMENTARY INFORMATION: Pursuant to the provisions of Section 2 of Public Law 110-383, dated October 10, 2008, and the approval of the survey completed under subsection (c) by the duly elected tribal council of the Pechanga Band of Luiseño Mission Indians, and subject to valid existing rights, all right, title, and interest of the United States in the land transferred into trust and held by the Secretary of the Interior for the benefit of the Pechanga Band of Luiseño Mission Indians of California and as part of the Pechanga Indian Reservation, is described as follows:

San Bernardino Meridian, California

T. 8 S., R. 2 W.,

Sec. 24, S1/2SW1/4, NE1/4SE1/4, and S1/2SE1/4;

Sec. 29, lot 2 and SW1/4SW1/4;

Sec. 31, lot 4, NE1/4, SE1/4NW1/4, NE1/4SW1/4, SE1/4SW1/4, and SE1/4;

Sec. 32, NW1/4, NE1/4SW1/4, and N1/2SE1/4.

Per official plat accepted January 6, 2011.

T. 9 S., R. 2 W.,

Sec. 6, lots 2, 3, 13, and 15.

Per official plat accepted July 12, 2010.

T. 5 S., R. 4 W.,

Sec. 22, lot 5.

Per official plat accepted June 29, 1994.

The areas described aggregate 1,166.87 acres.

Pursuant to the provisions of Section 2 of Public Law 110-383, dated October 10, 2008 the lands transferred to San Diego Gas & Electric Company by Patent Number 04-2010-0012 (July 23, 2010) are described as follows:

San Bernardino Meridian, California

T. 9 S., R. 2 W.,

Sec. 6, lots 14 and 16.

Per official plat accepted July 12, 2010.

The area described contains 11.04 acres.

Authority: Public Law 110-383, 122 STAT. 4090-4093.

Dated: January 22, 2013.
Lance J. Bishop,
Chief Cadastral Surveyor, California.

[FR Doc. 2013-18572 Filed 7-31-13; 8:45 am]

BILLING CODE 4310-40-P